Title 3—

The President

Proclamation 9102 of April 8, 2014

National Former Prisoner of War Recognition Day, 2014

By the President of the United States of America

A Proclamation

Since the earliest days of our Republic, the brave men and women of our Armed Forces have answered the call to serve. They have put their lives on the line for our Nation, and many have sacrificed their own freedom to safeguard ours. On National Former Prisoner of War Recognition Day, we honor those who stood up, took an oath, put on the uniform, and faced immeasurable challenges far from home.

These patriots often suffered physical and mental torture during captivity. Many endured starvation and isolation, not knowing when or if they would make it safely back to our shores. Families experienced days, months, and sometimes years of uncertainty, but they showed remarkable strength that mirrored the grit of their loved ones through long stretches of imprisonment. These warriors rendered the highest service any American can offer our country—they fought and sacrificed so that we might live in peace, security, and prosperity.

Today, we are solemnly reminded of our responsibility to care for those who have borne these burdens for us. We recommit to honoring that sacred obligation—to serving our former prisoners of war, our veterans, and their families as well as they have served us. With unyielding pride and unending gratitude, let us fulfill our promises to the courageous heroes of generations past, to this generation of veterans, and to all who will follow.

NOW, THEREFORE, I, BARACK OBAMA, President of the United States of America, by virtue of the authority vested in me by the Constitution and the laws of the United States, do hereby proclaim April 9, 2014, as National Former Prisoner of War Recognition Day. I call upon all Americans to observe this day of remembrance by honoring all American prisoners of war, our service members, and our veterans. I also call upon Federal, State, and local government officials and organizations to observe this day with appropriate ceremonies and activities.

IN WITNESS WHEREOF, I have hereunto set my hand this eighth day of April, in the year of our Lord two thousand fourteen, and of the Independence of the United States of America the two hundred and thirty-eighth.

[FR Doc. 2014-08425

Filed 4-10-14; 11:15 am]

Billing code 3295-F4